DEPARTMENT OF THE INTERIOR

National Park Service

[NPS-WASO-NRNHL-DTS#-28222; PPWOCRADI0, PCU00RP14.R50000]

National Register of Historic Places; Notification of Pending Nominations and Related Actions

AGENCY: National Park Service, Interior.

ACTION: Notice.

SUMMARY: The National Park Service is soliciting comments on the significance of properties nominated before June 8, 2019, for listing or related actions in the National Register of Historic Places.

DATES: Comments should be submitted by July 10, 2019.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before June 8, 2019. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ARIZONA

Maricopa County

O'Connor, Sandra Day, House, 1230 N. College Ave., Tempe, SG100004185

Yavapai County

Fleury's Addition Historic District (Boundary Increase), (Prescott Territorial Buildings MRA), 527 W. Gurley St., Prescott, BC100004184

CALIFORNIA

Butte County

Mountain House Historic District, 13465 Oroville-Quincy Hwy., Mountain House, SG100004195

Los Angeles County

Bank of Italy Building, 649 S. Olive St., Los Angeles, SG100004191

Santa Clara County

Gilroy Southern Pacific Railroad Depot, 7250 Monterey St., Gilroy, SG100004192

COLORADO

Jefferson County

Shaffer, John C., Barn, 14422 W. Ken Caryl Ave., Littleton vicinity, SG100004188

Larimer County

Bennett House, 816 W. Mountain Ave., Fort Collins, SG100004187

Prowers County

Atchison, Topeka and Santa Fe Railway Passenger Depot, (Railroads in Colorado, 1858-1948 MPS), 109 E. Beech St., Lamar, MP100004186

DISTRICT OF COLUMBIA

District of Columbia

District of Columbia Municipal Center and Plaza, 300 Indiana Ave. NW (301 C St. NW), Washington, SG100004189

KANSAS

Atchison County

Atchison YMCA, 325 Commercial St., Atchison, SG100004203

Brown County

Fete Apartments, 205 E. 7th St., Horton, SG100004202

Douglas County

Klock's Grocery & Independent Laundry, (Lawrence, Kansas MPS), 900 Mississippi St., Lawrence, MP100004200

Gray County

Cimarron City Jail, East Ave. D, Cimarron, SG100004201

Lincoln County

Lincoln High School, (Public Schools of Kansas MPS), 700 S. 4th St., Lincoln, MP100004204

Wyandotte County

Brotherhood Block, 753 State Ave., & 754-756 Minnesota Ave., Kansas City, SG100004198

Kansas City, Kansas YMCA Building, 900 N. 8th St., Kansas City, SG100004199

WISCONSIN

La Crosse County

Loeffler, Otto and Ida, House, 1603 Main St., La Crosse, SG100004206

An owner objection received for the following resources:

CALIFORNIA

Alameda County

MacGregor Building, The, 1389, 1391, 1393, and 1395 Solano Ave.; and 856 Carmel Ave., Albany, SG100004193

Santa Barbara County

Mission Creek Bridge, (Highway Bridges of California MPS), Mission Canyon Rd. 0.15 mi. NE of Alameda Padre Serra, Santa Barbara, MP100004194

An additional documentation has been received for the following resource:

ARKANSAS

Crawford County

Muxen Building, 22733 N. US 71, Winslow vicinity, AD100003986

Authority: Section 60.13 of 36 CFR part 60.

Dated: June 14, 2019.
Christopher Hetzel,
Acting Chief, National Register of Historic Places/National Historic Landmarks Program.

[FR Doc. 2019-13443 Filed 6-24-19; 8:45 am]

BILLING CODE 4312-52-P